DEPARTMENT OF LABOR

Employment and Training Administration

[TA-W-50,605]

Jacksonville Sewing Center, Madisonville, TN; Notice of Termination of Investigation

Pursuant to section 221 of the Trade Act of 1974, as amended, an investigation was initiated on January 22, 2003 in response to a worker petition filed on behalf of the workers of Jackson Sewing Center, Madisonville, Tennessee.

The Department issued a negative determination applicable to the petitioning group of workers on December 4, 2002 (TA-W-42,256). No new information or change in circumstances is evident which would result in a reversal of the Department's previous determination. Consequently, further investigation would serve no purpose, and the investigation has been terminated.

Signed at Washington, DC, this 31st day of January, 2003.
Linda G. Poole,
Certifying Officer, Division of Trade Adjustment Assistance.

[FR Doc. 03-4276 Filed 2-21-03; 8:45 am]

BILLING CODE 4510-30-P